DEPARTMENT OF EDUCATION

President's Advisory Commission on Hispanic Prosperity

AGENCY: President's Advisory Commission on Hispanic Prosperity, Office of Communications and Outreach, U.S. Department of Education.

ACTION: Announcement of an open meeting.

SUMMARY: This notice sets forth the agenda, time, and instructions for public participation in the August 31, 2020 virtual meeting of the President's Advisory Commission on Hispanic Prosperity (Commission) and provides information to members of the public regarding the meeting. Notice of this meeting is required under Section 10(a)(2) of the Federal Advisory Committee Act (FACA). 41 CFR 102-3.150(b) provides “In exceptional circumstances, the agency . . . . may give less than 15 calendar days notice, provided that the reasons for doing so are included in the advisory committee meeting notice published in the Federal Register.” Consequently, this notice is being published less than 15 days from the meeting date due to the exceptional and immediate need to establish a strategic plan for the Commission and to identify items and measures for action in light of the declared national emergency related to the COVID-19 pandemic and the significant changes to educational delivery and massive economic dislocation it has caused the Hispanic American community.

DATES: The virtual meeting of the Commission will be held on August 31, 2020, from 3:00 p.m. to 5:00 p.m. Eastern Standard Time.

FOR FURTHER INFORMATION CONTACT: Emmanuel Caudillo, Designated Federal Official, President's Advisory Commission on Hispanic Prosperity, U.S. Department of Education, 400 Maryland Avenue SW, Room 7E324, Washington, DC 20202, telephone: (202) 453-5529, or email: Emmanuel.Caudillo@ed.gov.

SUPPLEMENTARY INFORMATION: The Commission's Statutory Authority and Function: The Commission is established under Executive Order 13935 (July 9, 2020). The Commission's duties are to advise the President and the Secretary on educational and economic opportunities for the Hispanic American community in the following areas: (i) Promoting pathways to in-demand jobs for Hispanic American students, including apprenticeships, internships, fellowships, mentorships, and work-based learning initiatives; (ii) strengthening HSIs, as defined by the Higher Education Act of 1965, as amended, and increasing the participation of the Hispanic American community, Hispanic-serving school districts, and HSIs in the programs of the Department and other agencies; (iii) promoting local-based and national private-public partnerships to promote high-quality education, training, and economic opportunities for Hispanic Americans; (iv) promoting awareness of educational opportunities for Hispanic American students, including options to enhance school choice, personalized learning, family engagement, and civics education; (v) promoting public awareness of the educational and training challenges that Hispanic Americans face and the causes of these challenges and; (vi) monitoring changes in Hispanic Americans' access to educational and economic opportunities.

Meeting Agenda

The agenda for the Commission meeting is the creation of strategic plan to meet its duties under its charter.

Instructions for Accessing the Meeting

Members of the public may submit written statements regarding the work of the Commission via Emmanuel.Caudillo@ed.gov (please use the subject line “August 2020 Advisory Commission Meeting Public Comment), or by letter to Emmanuel Caudillo, White House Hispanic Prosperity Initiative, 400 Maryland Avenue SW, 7E324, Washington, DC 20202, by Friday, August 28, 2020.

Members of the public may register to obtain dial-in instructions at the below link. Due to technical constraints, registration is limited to 200 participants and will be available on a first-come, first-served basis. https://ems9.intellor.com?do=register&t=1&p=901842.

Access to Records of the Meeting: The Department will post the official report of the meeting on the Commission's website within 90 days after the meeting. In addition, pursuant to the FACA, the public may request to inspect records of the meeting at 400 Maryland Avenue SW, Washington, DC, by emailing Emmanuel.Caudillo@ed.gov or by phoning (202) 453-5529 to schedule an appointment.

Reasonable Accommodations: The meeting platform and access code are accessible to individuals with disabilities. If you will need an auxiliary aid or service for the meeting (e.g., interpreting service, assistive listening device, or materials in an alternate format), notify the contact person listed in this notice not later than Wednesday, August 26, 2020. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Executive Order 13935 (July 9, 2020).

Elizabeth Hill,
Delegated to perform the duties of the Assistant Secretary, Communications Director, Office of Communications and Outreach.

[FR Doc. 2020-18733 Filed 8-25-20; 8:45 am]

BILLING CODE 4000-01-P